DEPARTMENT OF HOMELAND SECURITY

Federal Emergency Management Agency

Agency Information Collection Activities: Proposed Collection; Comment Request

AGENCY: Federal Emergency Management Agency, DHS.

ACTION: Notice; 60-day notice and request for comments; Extension of a currently approved collection 1660-0025, Standard Forms: SF-LLL, SF-424, SF-270, FEMA Forms: 20-10, 20-15, 20-16A,B,C, 20-17, 20-18, 20-19, 20-20, and 76-10A.

SUMMARY: The Federal Emergency Management Agency, as part of its continuing effort to reduce paperwork and respondent burden, invites the general public and other Federal agencies to take this opportunity to comment on a proposed continuing information collection. In accordance with the Paperwork Reduction Act of 1995, this notice seeks comments concerning the forms used to collect financial, programmatic and administrative information from States and local governments pertaining to grant and cooperative agreement.

SUPPLEMENTARY INFORMATION: This information is provided in accordance with the requirements in 44 CFR part 13, Uniform Administrative Requirements for Grants and Cooperative Agreements to State and Local Government (subpart B 13.10, and subpart C 13.32, 13.33, 13.40, 13.41, and subpart D 13.50). This is FEMA implementation of the Common Rule for grants.

Collection of Information

Title: FEMA Grant Administration Forms.

Type of Information Collection: Extension of a currently approved collection.

OMB Number: 1660-0025.

Form Numbers: SF-424, Application for Federal Assistance, FEMA Form 20-20, Budget Information, FEMA Form 20-15, Budget Information—Construction, FEMA Form 20-16,A,B,C, Summary Sheet for Assurances and Certifications, SF LLL, Disclosure of Lobbying Activities, FEMA Form 76-10A, Obligating Document for Award/Amendment, FEMA Form 20-10, Financial Status Report and Performance Reports, FEMA Form 20-17, Outlay Report and Request for Reimbursement for Construction Program, FEMA Form 20-18, Report of Government Property, FEMA Form 20-19, Reconciliation of Grants and Cooperative Agreements, and SF 270 Request for Advance or Reimbursement.

Abstract: This collection of information focuses on the standardization and consistent use of standard and FEMA forms associated with grantees requests for disaster and non-disaster Federal assistance, submission of financial and administrative reporting and record keeping. The use of the forms will minimize burden on the respondent and enable FEMA to continue to improve in its grants administration practices. The forms are used to administer the following FEMA grant programs.

National Urban Search and Rescue (US&R) Response System—To develop an immediately deployable, national response capability to locate and extricate, and medically stabilize victims of structural collapse during a disaster, while simultaneously enhancing the US&R response capabilities of State and local governments.

Community Assistance Program-State Support Services Element (CAP-SSSE)—To ensure that communities participating in the National Flood Insurance Program (NFIP) are achieving flood loss reduction measures consistent with program direction. The CAP-SSSE is intended to identify, prevent and resolve floodplain management issues in participating communities before they develop into problems requiring enforcement action.

Chemical Stockpile Emergency Preparedness Program (CSEPP)—To enhance emergency preparedness capabilities of the States and local communities at each of the eight chemical agent stockpile storage facilities. The purpose of the program is to assist States and local communities in efforts to improve their capacity to plan for and respond to accidents associated with the storage and ultimate disposal of chemical warfare materials.

National Dam Safety Program (NDSP)—To encourage the establishment and maintenance of effective State programs intended to ensure dam safety, to protect human life and property, and to improve State dam safety programs.

Interoperable Communications Equipment (ICE)—To provide funding to jurisdictions across the nation for demonstration projects on uses of equipment and technologies to increase communications interoperability among the fire service, law enforcement, and emergency medical service communities. These projects will illustrate and encourage the acceptance of new technologies and operating methods to assist communities in achieving interoperability.

Earthquake Consortium (EqC)—To operate a program of grants and assistance to enable States to develop mitigation, preparedness and response plans prepare inventories and conduct seismic safety inspection of critical structures and lifelines, update building and zoning codes and ordinances to enhance seismic safety, increase earthquake awareness and education, and encourage the development of multi-State groups for such purposes.

Disaster Donations Management Program (AIDMATRRIX)—To distribute technology solutions to State and local government and voluntary agencies throughout the country prior, to a major event, through the Aidmatrix Foundation/FEMA partnership. This will allow end-users to incorporate technology solutions into their planning, increasing their capacity to respond quickly and effectively once a disaster occurs.

Alternative Housing Pilot Program (AHPP)—Evaluate the efficacy of non-traditional short and intermediate-term housing alternatives for potential future use in a catastrophic disaster environment. Identify, develop and evaluate alternatives to and alternative forms of FEMA Disaster Housing to assist victims of the 2005 hurricanes in the Gulf Coast.

Cooperating Technical Partners (CTP)—To increase local involvement in, and ownership of, the development and maintenance of flood hazard maps produced for the National Flood Insurance Program (NFIP).

Map Modernization Management Support (MMMS)—To increase local involvement in, and ownership of, management of the development and maintenance of flood hazard maps produced for the National Flood Insurance

New Repetitive Flood Claims (RFC)—The Repetitive Flood Claims (RFC) Program was authorized in 2004 under Public Law 108-264, funds were not appropriated until FY 2006. The RFC program is authorized under the NFIA to award grants for actions that reduce flood damages to individual properties for which one or more claim payments for losses have been made. FEMA is not required to publish regulations; however, FEMA will provide notice to eligible applicants, post notice on OMB's Grants.gov Web site, and post the RFC program guidance on its Web site at http://www.fema.gov.

Flood Mitigation Assistance (FMA)—To assist States and communities in implementing measures to reduce or eliminate the long-term risk of flood damage to buildings, manufactured homes, and other structures insurable under the National Flood Insurance Program (NFIP).

Pre-Disaster Mitigation (PDM)—To provide States and communities with a much needed source of pre-disaster mitigation funding for cost-effective hazard mitigation activities that are part of a comprehensive mitigation program, and that reduce injuries, loss of life, and damage and destruction of property. Competitive grants are part of this program including grants to universities.

Assistance to Firefighters Grant (AFG)—To provide direct assistance, on a competitive basis, to fire departments of a State or tribal nation for the purpose of protecting the health and safety of the public and firefighting personnel against fire and fire-related hazards.

Staffing for Adequate Fire and Emergency Response (SAFER)—To increase the number of firefighters in local communities and to help them meet industry minimum standards and attain 24/7 staffing for adequate protection against fire and fire-related hazards, and fulfill related roles associated with fire departments.

Disaster Programs

Public Assistance Grants (PA)—To provide supplemental assistance to States, local governments, and political subdivisions to the State, Indian Tribes, Alaskan Native Villages, and certain nonprofit organizations in alleviating suffering and hardship resulting from major disasters or emergencies declared by the President.

Crisis Counseling (SCC)—To provide immediate crisis counseling services, when required, to victims of a major Federally-declared disaster for the purpose of relieving mental health problems caused or aggravated by a major disaster or its aftermath.

Presidential Declared Disaster Assistance to Individuals and Households—Other Needs (ONA)—To provide assistance to individuals and households affected by a disaster or emergency declared by the President, and enable them to address necessary expenses and serious needs, which cannot be met through other forms of disaster assistance or through other means such as insurance.

Hazard Mitigation Grant Program (HMGP)—To provide States and local governments' financial assistance to implement measures that will permanently reduce or eliminate future damages and losses from natural hazards through safer building practices and improving existing structures and supporting infrastructure.

Fire Management Assistance Grant (FMAGP)—To provide grants to States, Indian tribal government and local governments for the mitigation, management and control of any fire burning on publicly (nonfederal) or privately owned forest or grassland that threatens such destruction as would constitute a major disaster.

Affected Public: State, local, and tribal government.

Estimated Total Annual Burden Hours
Data collections activity/instruments | Number of respondents per form | Frequency of responses | Hour burden per response | Annual responses | Total annual burden hours
| (A) | (B) | (C) | (D = A × B) | (C × D)
Disaster Programs
PA:
SF 424 | 56 | 1 | 1 | 56 | 56
FF 20-20 | 56 | 1 | 9.7 | 56 | 543
FF 20-16, A, B, C | 56 | 1 | 1.7 | 56 | 95
FF 20-10 | 56 | 4 | 1 | 224 | 224
SF-LLL | 56 | 1 | 0.167 | 56 | 9
Sub-total Annual Responses & Burden Hours |  |  |  | 448 | 928
Number of disasters grant applies to |  |  |  | 57 | 57
Total PA |  |  |  | 25536 | 52882
SCC:
SF 424 | 17 | 1 | 1 | 17 | 17
FF 20-20 | 17 | 1 | 9.7 | 17 | 165
FF 20-16, A, B, C | 17 | 1 | 1.7 | 17 | 29
FF 20-10 (SF 269) | 17 | 4 | 1 | 68 | 68
SF-LLL | 17 | 1 | 0.167 | 17 | 3
Sub-total Annual Responses & Burden Hours |  |  |  | 136 | 282
Number of disasters grant applies to |  |  |  | 57 | 57
Total SCC |  |  |  | 7752 | 16053
ONA:
SF 424 | 40 | 1 | 1 | 40 | 40
FF 20-20 | 40 | 1 | 9.7 | 40 | 388
FF 20-16, A, B, C | 40 | 1 | 1.7 | 40 | 68
FF 20-10 | 40 | 4 | 1 | 160 | 160
SF-LLL | 40 | 1 | 0.167 | 40 | 7
Sub-total Annual Responses & Burden Hours |  |  |  | 320 | 663
Number of disasters grant applies to |  |  |  | 57 | 57
Total ONA |  |  |  | 18240 | 37773
HMGP:
SF 424 | 52 | 1 | 1 | 52 | 52
FF 20-20 | 52 | 15 | 9.7 | 780 | 7566
FF 20-16, A, B, C | 52 | 1 | 1.7 | 52 | 88
FF 20-10 | 52 | 4 | 1 | 208 | 208
FF 20-17 | 52 | 15 | 17.2 | 780 | 13416
FF 20-18 | 52 | 6 | 4.2 | 312 | 1310
FF 20-19 | 52 | 6 | 0.084 | 312 | 26
SF LLL | 52 | 1 | 0.167 | 52 | 9
Sub-total Annual Responses & Burden Hours |  |  |  | 2548 | 22676
Number of disasters grant applies to |  |  |  | 57 | 57
Total HMGP |  |  |  | 145236 | 1292514
FMAGP:
SF 424 | 12 | 4 | 1 | 48 | 48
FF 20-20 | 36 | 4 | 9.7 | 144 | 1397
FF 20-16, A, B, C | 36 | 4 | 1.7 | 144 | 245
FF 20-15 | 36 | 4 | 17.2 | 144 | 2477
FF 20-10 | 12 | 4 | 1 | 48 | 48
FF 20-18 | 36 | 4 | 4.2 | 144 | 605
FF 20-19 | 36 | 4 | 0.084 | 144 | 12
SF-LLL | 36 | 4 | 0.167 | 144 | 24
Sub-total Annual Responses & Burden Hours |  |  |  | 960 | 4855
Number of disasters grant applies to |  |  |  | 94 | 94
Total FMGP |  |  |  | 90,240 | 456,402
Total of Annual Responses and Burden Hours for Disaster-Related Programs |  |  |  | 287004 | 1855625
Non-Disaster Programs
US&R:
SF 424 | 28 | 1 | 1 | 28 | 28
FF 20-20 | 28 | 1 | 9.7 | 28 | 272
FF 20-16, A, B, C | 28 | 1 | 1.7 | 28 | 48
FF 76-10A | 28 | 1 | 1.2 | 28 | 34
FF 20-10 | 28 | 2 | 1 | 56 | 56
SF 270 | 28 | 1 | 1 | 28 | 28
SF LLL | 28 | 1 | 0.167 | 28 | 5
Total US&R |  |  |  | 224 | 469
CAP-SSSE:
SF 424 | 56 | 1 | 1 | 56 | 56
FF 20-20 | 56 | 1 | 9.7 | 56 | 543
FF 20-15 | 56 | 1 | 17.2 | 56 | 963
FF 20-16, A, B, C | 56 | 1 | 1.7 | 56 | 95
FF 76-10A | 56 | 1 | 1.2 | 56 | 67
FF 20-10 | 56 | 2 | 1 | 112 | 112
FF 20-18 | 56 | 1 | 4.2 | 56 | 235
FF 20-19 | 56 | 1 | 0.084 | 56 | 5
SF LLL | 56 | 1 | 0.167 | 56 | 9
Total CAP-SSSE |  |  |  | 560 | 2086
CSEPP:
SF 424 | 10 | 1 | 1 | 10 | 10
FF 20-20 | 10 | 1 | 9.7 | 10 | 97
FF 20-10 | 10 | 4 | 1 | 40 | 40
FF 20-16, A, B, C | 10 | 1 | 1.7 | 10 | 17
FF 76-10A | 10 | 1 | 1.2 | 10 | 12
FF 20-18 | 10 | 1 | 4.2 | 10 | 42
FF 20-19 | 10 | 1 | 0.084 | 10 | 1
SF LLL | 10 | 1 | 0.167 | 10 | 2
Total CSEPP |  |  |  | 110 | 221
NDSP:
SF 424 | 51 | 1 | 1 | 51 | 51
FF 20-20 | 51 | 1 | 9.7 | 51 | 495
FF 20-16, A, B, C | 51 | 1 | 1.7 | 51 | 87
FF 76-10A | 51 | 1 | 1.2 | 51 | 61
FF 20-10 | 51 | 4 | 1 | 204 | 204
SF 270 | 51 | 1 | 1 | 51 | 51
SF LLL | 51 | 1 | 0.167 | 51 | 9
Total NDSP |  |  |  | 510 | 957
ICE:
FF 20-10 | 17 | 4 | 1 | 68 | 68
ICE |  |  |  | 68 | 68
EqC:
FF 20-10 | 3 | 2 | 1 | 6 | 6
Total EqC |  |  |  | 6 | 6
AIDMATRIX:
SF 424 | 1 | 1 | 1 | 1 | 1
FF 20-20 | 1 | 1 | 9.7 | 1 | 10
FF 20-10 | 1 | 4 | 1 | 4 | 4
FF 20-16 A, B, C | 1 | 1 | 1.7 | 1 | 2
SF LLL | 1 | 1 | 0.167 | 1 | 0
Total AIDMATRIX |  |  |  | 8 | 17
AHPP:
SF 424 | 4 | 1 | 1 | 4 | 4
FF 20-20 | 4 | 1 | 9.7 | 4 | 39
FF 20-10 | 4 | 4 | 1 | 16 | 16
FF 20-16, A, B, C | 4 | 1 | 1.7 | 4 | 7
SF LLL | 4 | 1 | 0.167 | 4 | 1
Total AHPP |  |  |  | 32 | 66
CTP:
SF 424 | 20 | 1 | 1 | 20 | 20
FF 20-20 | 20 | 1 | 9.7 | 20 | 194
FF 20-15 | 20 | 1 | 17.2 | 20 | 344
FF 20-16, A, B, C | 20 | 1 | 1.7 | 20 | 34
FF 20-10 | 20 | 4 | 1 | 80 | 80
SF LLL | 20 | 1 | 0.167 | 20 | 3
Total CTP |  |  |  | 180 | 675
MMMS:
SF 424 | 20 | 1 | 1 | 20 | 20
FF 20-20 | 20 | 1 | 9.7 | 20 | 194
FF 20-15 | 20 | 1 | 17.2 | 20 | 344
FF 20-16, A, B, C | 20 | 1 | 1.7 | 20 | 34
FF 20-10 | 20 | 2 | 1 | 40 | 40
SF LLL | 20 | 1 | 0.167 | 20 | 3
Total MMMS |  |  |  | 140 | 635
RFC:
SF 424 | 56 | 1 | 1 | 56 | 56
FF 20-20 | 56 | 1 | 9.7 | 56 | 543
FF 76-10A | 56 | 1 | 1.2 | 56 | 67
FF 20-16, A, B, C | 56 | 1 | 1.7 | 56 | 95
FF 20-10 | 56 | 4 | 1 | 224 | 224
FF 20-18 | 56 | 1 | 4.2 | 56 | 235
FF-20-19 | 56 | 1 | 0.084 | 56 | 5
SF LLL | 56 | 1 | 0.167 | 56 | 9
Total RFC |  |  |  | 616 | 1235
FMA:
SF 424 | 56 | 3 | 1 | 168 | 168
FF 20-20 | 56 | 3 | 9.7 | 168 | 1630
FF 20-16, A, B, C | 56 | 1 | 1.7 | 56 | 95
FF 76-10A | 56 | 3 | 1.2 | 168 | 202
FF 20-10 | 56 | 4 | 1 | 224 | 224
FF 20-18 | 56 | 1 | 4.2 | 56 | 235
FF 20-19 | 56 | 1 | 0.084 | 56 | 5
SF LLL | 56 | 1 | 0.167 | 56 | 9
Total FMA |  |  |  | 952 | 2568
PDM:
SF 424 | 56 | 2 | 1 | 112 | 112
FF 20-15 | 56 | 1 | 17.2 | 56 | 963
FF 20-20 | 56 | 2 | 9.7 | 112 | 1086
FF 76-10A | 56 | 2 | 1.2 | 112 | 134
FF 20-16, A, B, C | 56 | 2 | 1.7 | 112 | 190
FF 20-10 | 56 | 8 | 1 | 448 | 448
FF 20-17 | 56 | 20 | 17.2 | 1120 | 19264
FF 20-18 | 56 | 2 | 4.2 | 112 | 470
FF 20-19 | 56 | 2 | 0.084 | 112 | 9
SF LLL | 56 | 2 | 0.167 | 112 | 19
Total PDM |  |  |  | 2408 | 22697
*AFG:
SF 424* | 4948 | 1 | 1 | 4948 | 4948
FF 20-20 | 4948 | 2 | 9.7 | 9896 | 95991
FF 76-10A | 4948 | 2 | 1.2 | 9896 | 11875
FF 20-16, A, B, C | 4948 | 1 | 1.7 | 4948 | 8412
FF 20-10 | 4948 | 2 | 1 | 9896 | 9896
FF 20-17 | 4948 | 1 | 17.2 | 4948 | 85106
FF 20-18 | 4948 | 1 | 4.2 | 4948 | 20782
FF 20-19 | 4948 | 1 | 0.084 | 4948 | 416
SF LLL | 4948 | 1 | 0.167 | 4948 | 826
Total AFG |  |  |  | 59376 | 238251
*FP&S:
SF 424 | 218 | 1 | 1 | 218 | 218
FF 20-20 | 218 | 2 | 9.7 | 436 | 4229
FF 76-10A | 218 | 2 | 1.2 | 436 | 523
FF 20-16, A, B, C | 218 | 1 | 1.7 | 218 | 371
FF 20-10 | 218 | 4 | 1 | 872 | 872
FF 20-17 | 218 | 1 | 17.2 | 218 | 3750
FF 20-18 | 218 | 1 | 4.2 | 218 | 916
FF 20-19 | 218 | 1 | 0.084 | 218 | 18
SF LLL | 218 | 1 | 0.167 | 218 | 36
Total FP&S |  |  |  | 3052 | 10933
*SAFER:
SF 424 | 262 | 1 | 1 | 262 | 262
FF 20-20 | 262 | 2 | 9.7 | 524 | 5083
FF 76-10A | 262 | 2 | 1.2 | 524 | 629
FF 20-16, A, B, C | 262 | 1 | 1.7 | 262 | 445
FF 20-10 | 262 | 4 | 1 | 1048 | 1048
FF 20-17 | 262 | 1 | 17.2 | 262 | 4506
FF 20-18 | 262 | 1 | 4.2 | 262 | 1100
FF 20-19 | 262 | 1 | 0.084 | 262 | 22
SF LLL | 262 | 1 | 0.167 | 262 | 44
Total SAFER |  |  |  | 3668 | 13140
SRL:
SF 424 | 56 | 1 | 1 | 56 | 56
FF 20-20 | 56 | 1 | 9.7 | 56 | 543
FF 76-10A | 56 | 1 | 1.2 | 56 | 67
FF 20-16, A, B, C | 56 | 1 | 1.7 | 56 | 95
FF 20-10 | 56 | 4 | 1 | 224 | 224
FF 20-18 | 56 | 1 | 4.2 | 56 | 235
FF-20-19 | 56 | 1 | 0.084 | 56 | 5
SF LLL | 56 | 1 | 0.167 | 56 | 9
Total SRL |  |  |  | 616 | 1235
Total of Annual Responses and Burden Hours for Non-Disaster Programs |  |  |  | 72,877 | 295,261
Total of Annual Responses and Burden Hours for Disaster and Non-Disaster Programs |  |  |  | 359881 | 2150885

Estimated Cost: The annualized hour burden cost to respondents is estimated to be $57,365,765. This estimate is based on the hourly wage rate for State Representative and Fire Department Chiefs completing and submitting the FEMA Grant Administration forms to FEMA for review and approval.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before April 29, 2008.

ADDRESSES: Interested persons should submit written comments to Office of Management, Records Management Division, Federal Emergency Management Agency, 500 C Street, SW., Washington, DC 20472, Mail Drop Room 301, 1800 S. Bell Street, Arlington, VA 22202.

FOR FURTHER INFORMATION CONTACT: Contact Cecelia Rosenberg, Section Chief, Mitigation Directorate, (202) 646-3321 for additional information. You may contact the Records Management Branch for copies of the proposed collection of information at facsimile number (202) 646-3347 or e-mail address: FEMA-Information-Collections@dhs.gov.

Dated: February 13, 2008.
John A. Sharetts-Sullivan,
Director, Records Management Division, Office of Management, Federal Emergency Management Agency, Department of Homeland Security.

[FR Doc. E8-3905 Filed 2-28-08; 8:45 am]

BILLING CODE 9110-49-P